DEPARTMENT OF HEALTH AND HUMAN SERVICES

Centers for Disease Control and Prevention

[30-Day-13-12PS]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Evaluation of the Get Yourself Tested (GYT) Campaign—New—National Center for HIV/AIDS, Viral Hepatitis, STD and TB Prevention (NCHHSTP), Centers for Disease Control and Prevention (CDC).

Background and Brief Description

The purpose of this data collection is to evaluate the reach and impact of the GYT: Get Yourself Tested campaign. Evaluation of GYT will be based on data collected from 4000 young adults. The data will be collected through a 30-minute, web-based survey. Data from the survey will then be quantitatively evaluated to determine the reach and impact of the GYT: Get Yourself Tested campaign.

This information needs to be collected in order to evaluate whether the GYT: Get Yourself Tested campaign is reaching the appropriate target audience, identify messages the audience is taking away from GYT; determine whether individuals who saw the GYT campaign are more likely to engage in target behaviors and their mediators; and determine whether perceived norms around testing, treatment, and sexual health vary between people who have seen the campaign and those who have not. The information obtained from the proposed data collection will be used by CDC to improve, update and decide whether to continue the GYT campaign and to determine whether GYT is able or unable to impact norms and behaviors related to STD testing. It will also be used to inform future efforts to communicate with the public about STD/HIV testing.

Because the GYT campaign targets young adults and minority youth, populations with higher rates of STD/HIV than the general population, it is essential to examine the effectiveness of this communication to determine whether this campaign is addressing these high STD/HIV rates. If the campaign is not evaluated, there will be no evidence-based criteria which can be used to guide the future of the campaign. Additionally, future efforts to communicate with the public and providers about STD/HIV issues will be hampered by the lack of evidence of this campaign's effectiveness.

CDC, National Association of City and County Health Officials (NACCHO) and Knowledge Networks will disseminate the study results to the public through reports prepared for/by CDC, NACCHO and Knowledge Networks and through peer-reviewed journal articles and related presentations. All releases of information will be reviewed and approved by CDC and partner organizations involved with GYT.

This evaluation study will rely on a Web-based survey to be self-administered at home or at work on personal computers. Using the existing research panel as a population from which to draw a sample of participants has many advantages. First, because the panel is already recruited, consented, and familiar with the technology, there is no burden of recruitment and introduction to the survey method. This saves a great deal of burden on the public and on CDC, as we need not engage in random-digit dialing (RDD) or other sampling procedures to accrue participants, and we need not spend time explaining how to complete the survey. Second, Knowledge Networks has conducted the research to validate the sample and ensure its representativeness. This enhances the generalizability of the study, and thus the value of the results is greater than if we relied on a sample of phone-recruited volunteers. Third, Knowledge Networks has conducted surveys of sensitive and stigmatized topics in the past, including an in-depth and explicit sexual behavior survey. These surveys have been extremely successful. This allows us to proceed with confidence in the method, the contractor, and the survey design. The total annualized response burden is estimated at 2000 hours for 4000 web-based surveys.

There are no costs to respondents other than their time.

Annualized Burden Hours
Respondents | Form name | Number of respondents | Number of responses per respondent | Average burden per response (hrs.)
Young adults | Web-based survey | 4000 | 1 | 30/60

Dated: December 13, 2012.
Ron A. Otten,
Director, Office of Scientific Integrity (OSI), Office of the Associate Director for Science (OADS), Office of the Director, Centers for Disease Control and Prevention.

[FR Doc. 2012-30563 Filed 12-18-12; 8:45 am]

BILLING CODE 4163-18-P